DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Forest Oil Corporation, Structure Removal SEA ES/SR 05-161 | Eugene Island, Block 314, Lease OCS-G 01981, located 70 miles from the nearest Louisiana shoreline | 11/29/2005
Southern Natural Gas Company, Structure Removal SEA ES/SR 05-160 | Main Pass, Block 298, Lease OCS-G 01906, located 18 miles from the nearest Louisiana shoreline | 12/1/2005
Energy Resource Technology, Inc., Structure Removal SEA ES/SR 05-162 | East Cameron, Block 38, Lease OCS-G 02562, located 8 miles from the nearest Louisiana shoreline | 12/5/2005
Apache Corporation, Structure Removal SEA ES/SR 05-156 | Main Pass, Block 312, Lease OCS-G 16520, located 15 miles from the nearest Louisiana shoreline | 12/5/2005
Northern Natural Gas Company, Structure Removal SEA ES/SR 05-155 | Matagorda Island, Block 686, Lease OCS-G 04625, located 18 miles from the nearest Texas shoreline | 12/14/2005
Walter Oil & Gas Corporation, Structure Removal SEA ES/SR 05-153 | Grand Isle, Block 104, Lease OCS-G 14560, located 48 miles from the nearest Louisiana shoreline | 12/16/2005
El Paso Production Oil & Gas Company, Structure Removal SEA ES/SR 05-157 | Vermilion, Block 102, Lease OCS-G 03393, located 30 miles from the nearest Louisiana shoreline | 12/16/2005
Nippon Oil Exploration U.S.A. Limited, Structure Removal SEA ES/SR 05-163 | High Island, Block 140, Lease OCS 00518, located 20 miles from the nearest Texas shoreline | 12/19/2005
Walter Oil & Gas Corporation, Structure Removal SEA ES/SR 05-165 | High Island, Block 200, Lease OCS-G 09086, located 30 miles from the nearest Texas shoreline | 12/19/2005
Millennium Offshore Group, Inc., Structure Removal SEA ES/SR 05-158 | East Cameron, Block 192, Lease OCS-G 08650, located 70 miles from the nearest Louisiana shoreline | 12/21/2005
Apache Corporation, Structure Removal SEA ES/SR 05-159 | South Timbalier, Block 161, Lease OCS-G 01248, located 32 miles from the nearest Louisiana shoreline | 12/21/2005
Marlin Energy Offshore, L.L.C., Structure Removal SEA ES/SR 05-142, 143, 144, 145, 146, 147, 148, 149, 150, and 151 | South Timbalier, Block 21, Lease OCS-G 00263, located 4 miles from the nearest Louisiana shoreline | 12/29/2005

Persons interested in reviewing environmental documents for the proposals listed above or obtaining information about SEAs and FONSIs prepared for activities on the Gulf of Mexico OCS are encouraged to contact MMS at the address or telephone listed in the FOR FURTHER INFORMATION section.

Dated: January 18, 2006.
Chris C. Oynes,
Regional Director, Gulf of Mexico OCS Region.

[FR Doc. E6-2555 Filed 2-22-06; 8:45 am]

BILLING CODE 4310-MR-P